DEPARTMENT OF THE INTERIOR

Rocky Mountain National Park; Proposed Exchange of Federal Land for Non-Federal Land, All Within Larimer County, Colorado

AGENCY: National Park Service.

ACTION: Notice of realty action.

SUMMARY: Pursuant to the authority contained in the Act of October 26, 2005 (Pub. L. 109-93, 119 Stat. 2104), the Secretary of the Interior has been authorized to acquire certain lands by exchange, and is authorized, upon completion of said exchange, to revise the boundaries of Rocky Mountain National Park accordingly.

DATES: The effective date for this notice shall be the date of the Federal Register publication in which this notice appears.

FOR FURTHER INFORMATION CONTACT: Realty Officer, Land Resources Program Center, Intermountain Region, P.O. Box 728, Santa Fe, New Mexico 87504-9728, (505) 988-6810.

SUPPLEMENTARY INFORMATION: The above cited Act authorizes the Secretary of the Interior to exchange certain Federal land within Rocky Mountain National Park for non-Federal land within and adjacent to the Park boundary. Upon completion of this exchange, the boundaries of Rocky Mountain National Park will be revised to include the parcel now adjacent to the Park boundary. A perpetual easement shall be reserved over the Federal land for the purposes of protecting, preserving, and enhancing the conservation values of the Federal land. Land acquired in this exchange shall be managed as part of the Park in accordance with the laws and regulations applicable thereto. The lands to be exchanged are generally described as follows:

Federal Parcel

Tract No. 02-101A, a parcel of land in Section 14, Township 5 North, Range 73 West, Sixth Principal Meridian, containing 70.00 acres, more or less.

Non-Federal Parcels

Tract No. 10-106B, a parcel of land in Section 18, Township 5 North, Range 72 West, Sixth Principal Meridian, containing 2.48 acres, more or less.

Tract No. 10-106D, a parcel of land in Section 19, Township 5 North, Range 72 West, Sixth Principal Meridian, containing 1.58 acres, more or less.

Tract No. 10-112, a parcel of land in Section 18, Township 5 North, Range 72 West, Sixth Principal Meridian, containing 1.94 acres, more or less.

For a period of 45 calendar days from the date of this notice, interested parties may submit comments to the above address. Adverse comments will be evaluated, and this action may be modified or vacated accordingly. In the absence of any action to modify or vacate, this realty action will become the final determination of the Department of the Interior. Before including your address, phone number, e-mail address, or other personal identifying information in your comment, you should be aware that your entire comment—including your personal identifying information—may be made publicly available at any time. While you can ask us in your comment to withhold your personal identifying information from public review, we cannot guarantee that we will be able to do so.

Dated: June 27, 2007.
Michael D. Snyder,
Director, Intermountain Region.

[FR Doc. E7-13943 Filed 7-17-07; 8:45 am]

BILLING CODE 4312-53-P